NATIONAL SCIENCE FOUNDATION

Special Emphasis Panel In Geosciences; Notice of Meeting

In accordance with the Federal Advisory Committee Act (Public Law 92-463, as amended), the National Science Foundation announces the following meeting:

Name: Special Emphasis Panel in Geosciences. (1756).

Date/Time: March 26-28, 2001; 8:30 a.m. to 6 p.m.

Place: Southern California Earthquake Center (SCEC), California Institute of Technology.

Type of Meeting: Closed.

Contact Person: Dr. James H. Whitcomb, Acting Deputy Division Director, Division of Earth Sciences, Room 785, National Science Foundation, Arlington, VA 22230 (703) 292-8553.

Purpose of Meeting: To review the SCEC proposal for earthquake-related science, evaluate the past activities of the Southern California Earthquake Center, and make a recommendation concerning future funding of these activities.

Agenda: To evaluate: (a) the research program; (b) educational and outreach activities; and (c) the knowledge transfer activities and the management of the Southern California Earthquake Center. And, to make a recommendation on the future funding of these activities.

Reason for Closing: The proposals being reviewed include information of a proprietary or confidential nature, including technical information; financial data, such as salaries; and personal information concerning individuals associated with proposals. These matters are exempt under 5 U.S.C. 552b(c), (4) and (6) of the Government in the Sunshine Act.

Dated: March 1, 2001.
Susanne Bolton,
Committee Management Officer.

[FR Doc. 01-5464 Filed 3-6-01; 8:45 am]

BILLING CODE 7555-01-M